ENVIRONMENTAL PROTECTION AGENCY

[EPA-HQ-OW-2015-0714; FRL 9936-79-OW]

Notice of a Public Meeting of the National Drinking Water Advisory Council

AGENCY: Environmental Protection Agency (EPA).

ACTION: Notice of a public meeting and location.

SUMMARY: On November 2, 2015, the U.S. Environmental Protection Agency (EPA) announced a meeting of the National Drinking Water Advisory Council (NDWAC) in the Federal Register, as authorized under the Safe Drinking Water Act. This notice announces the location of the meeting (see the ADDRESSES section of this notice). The meeting is scheduled for November 17, 18 and 19, 2015. During this meeting, the NDWAC will focus discussions on developing recommendations for the EPA Administrator on the Lead and Copper National Primary Drinking Water Regulation—Long Term Revisions.

DATES: The meeting on November 17, 2015, will be held from 8:30 a.m. to 4:15 p.m.; November 18, 2015, from 8 a.m. to 5 p.m.; and November 19, 2015, from 8 a.m. to noon, eastern standard time.

ADDRESSES: The public meeting will be held at the Crystal City Marriott at Reagan National Airport, 1999 Jefferson Davis Highway, Arlington, Virginia 22202.

FOR FURTHER INFORMATION CONTACT: For more information about this meeting or to request written materials, contact Michelle Schutz of the Office of Ground Water and Drinking Water, U.S. Environmental Protection Agency, by phone at 202-564-7374 or by email at schutz.michelle@epa.gov. For additional information about the NDWAC meeting, please visit http://water.epa.gov/drink/ndwac/ or www.regulations.gov (search for Docket ID No. EPA-HQ-OW-2015-0714).

SUPPLEMENTARY INFORMATION: On November 2, 2015, the EPA announced a meeting of the National Drinking Water Advisory Council (NDWAC) in the Federal Register at 80 FR 67397.

Details about Participating in the Meeting: Teleconferencing will be available during the meeting. The number of teleconference connections available for the meeting is limited and will be offered on a first-come, first-served basis. The teleconference number is (1) 866-299-3188; when prompted, enter conference code 202 564 7347.

Dated: November 3, 2015.
Rebecca M. Clark,
Acting Director, Office of Ground Water and Drinking Water.

[FR Doc. 2015-28494 Filed 11-6-15; 8:45 am]

BILLING CODE 6560-50-P